DEPARTMENT OF HEALTH AND HUMAN SERVICES

National Institutes of Health

National Institute on Deafness and Other Communication Disorders; Amended Notice of Meeting

Notice is hereby given of a change in the meeting of the National Institute on Deafness and Other Communication Disorders Special Emphasis Panel, February 05, 2021, 11:00 a.m. to February 05, 2021, 02:00 p.m., National Institutes of Health, Neuroscience Center, 6001 Executive Boulevard, Rockville, MD 20852 which was published in the Federal Register on January 19, 2021, 85 FR 83977.

This meeting date has been changed to 2/17/2021. The meeting is closed to the public.

Dated: January 19, 2021.
Miguelina Perez,
Program Analyst, Office of Federal Advisory Committee Policy.

[FR Doc. 2021-01597 Filed 1-25-21; 8:45 am]

BILLING CODE 4140-01-P